DEPARTMENT OF HEALTH AND HUMAN SERVICES

Food and Drug Administration

[FDA 225-00-4001]

Memorandum of Understanding Between the Maryland Department of Health and Mental Hygiene and the Food and Drug Administration

AGENCY: Food and Drug Administration, HHS.

ACTION: Notice.

SUMMARY: The Food and Drug Administration (FDA) is providing notice of a memorandum of understanding (MOU) between the Maryland Department of Health and Mental Hygiene and the Food and Drug Administration. The purpose is to set forth conditions for the utilization of Maryland Medicaid data for the study entitled “Compliance with Liver Testing Labeling Guidelines by Health Care Providers.”

DATES: The agreement became effective December 12, 2000.

FOR FURTHER INFORMATION CONTACT: Katrina S. Garry, Center for Drug Evaluation and Research (HFD-400), Food and Drug Administration, 5600 Fishers Lane, Rockville, MD 20857, 301-827-3192.

SUPPLEMENTARY INFORMATION: In accordance with 21 CFR 20.108(c), which states that all written agreements and MOUs between FDA and others shall be published in the Federal Register, the agency is publishing notice of this MOU.

Dated: June 29, 2001.
Margaret M. Dotzel,
Associate Commissioner for Policy.

BILLING CODE 4160-01-C

[FR Doc. 01-16988 Filed 7-5-01; 8:45 am]

BILLING CODE 4160-01-C